DEPARTMENT OF LABOR

Information Collection Request for Unemployment Insurance (UI) Trust Fund Activities Reports: Extension Without Change, Comment Request

AGENCY: Employment and Training Administration, Labor.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before January 31, 2012.

ADDRESSES: Send comments to Joe Williams, U.S. Department of Labor, Employment and Training Administration, Office of Workforce Security, 200 Constitution Avenue NW., Frances Perkins Bldg. Room S-4524, Washington, DC 20210, telephone number (202) 693-2928 (this is not a toll-free number) or by email: Williams.joseph@dol.gov.

SUPPLEMENTARY INFORMATION: I. Background: Section 303(a)(4) of the Social Security Act (SSA) and Section 3304(a)(3) of the Federal Unemployment Tax Act (FUTA) require that all monies received in the unemployment fund of a state be paid immediately to the Secretary of Treasury to the credit of the Unemployment Trust Fund (UTF). This is the “immediate deposit” standard.

Section 303(a)(5) of the SSA and Section 3304(a)(4) of the FUTA require that all monies withdrawn from the UTF be used solely for the payment of unemployment compensation, exclusive of the expenses of administration. This is the “limited withdrawal” standard.

Federal law (Section 303(a)(6) of the SSA) gives the Secretary of Labor the authority to require the reporting of information deemed necessary to assure state compliance with the provisions of the SSA.

Under this authority, the Secretary of Labor requires the following reports to monitor state compliance with the immediate deposit and limited withdrawal standards:

ETA 2112: UI Financial Transactions Summary, Unemployment Fund.

ETA 8401: Monthly Analysis of Benefit Payment Account.

ETA 8405: Monthly Analysis of Clearing Account.

ETA 8413: Income—Expense Analysis UC Fund, Benefit Payment Account.

ETA 8414: Income—Expense Analysis UC Fund, Clearing Account.

ETA 8403: Summary of Financial Transactions—Title IX Funds.

These reports are submitted to the Office of Unemployment Insurance (OUI) within the Employment and Training Administration which uses them to:

• Monitor cash flows into and out of the UTF to determine state compliance with the immediate deposit and limited withdrawal standards.

• Assure proper accounting for unemployment funds, an integral part of preparing the Department's consolidated financial statements required by the Chief Financial Officer Act of 1990. The UTF is the single largest asset and liability on the statements.

• Reconcile the Department's records with the U.S. Treasury records.

• Support UI research and actuarial reports analyzing the solvency of the UTF.

The Department seeks renewal of this collection since the reports are essential to the Department's financial statements and program oversight responsibilities.

II. Desired Focus of Comments: Currently the Employment and Training Administration is soliciting comments concerning the proposed extension collection of these reports. Commenters are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of the appropriate automated, electronic, mechanical, technological or other forms of information collection techniques.

III. Current Actions: The continued collection of these financial data are necessary for the purposes of monitoring and evaluating state financial transactions for proper oversight and administration of the UI system.

Type of Review: Extension without change.

Agency: Employment and Training Administration (ETA).

Title: Unemployment Insurance Trust Fund Activities Reports.

OMB Number: 1205-0154.

Agency Number: ETA 2112, 8401, 8405, 8413, 8414, 8403.

Affected Public: State Workforce Agencies.

Total Respondents: 53.

Frequency: ETA 2112, 8401, 8405, 8413, 8414: Monthly.

Total Responses: 53 states × 12 months = 636 responses.

Average time per Response: The ETA 2112, 8401, 8405, 8413, 8414 are all submitted on a monthly basis. We estimate the state burden to be: 636 total responses × 2.5 hours for all 5 reports (.5 hours for each report) = 1,590 hours. The ETA 8403 is submitted only when there is activity requiring update of the state's Reed Act account. We estimate the state burden to be: 53 states × 6 annual responses × 30 minutes per response = 159 reporting hours.

Estimated Total Burden Hours: 1,749 hours.

Total Burden Cost (capital/startup): $0.

Total Burden Cost (operating/maintaining): $0.

Comments submitted in response to this notice will be summarized and/or included in the request for Office of Management and Budget approval of the information collection request; they will also become a matter of public record.

Dated: Signed in Washington, DC, this 23rd day of November, 2011.
Jane Oates,
Assistant Secretary, Employment and Training Administration.

[FR Doc. 2011-30963 Filed 12-1-11; 8:45 am]

BILLING CODE 4510-FW-P